DEPARTMENT OF HEALTH AND HUMAN SERVICES

Centers for Medicare & Medicaid Services

42 CFR Parts 405, 412, 413, 415, 419, 422, and 485

[CMS-1500-CN]

RIN 0938-AN57

Medicare Program; Changes to the Hospital Inpatient Prospective Payment Systems and Fiscal Year 2006 Rates; Correction

AGENCY: Centers for Medicare & Medicaid Services (CMS), HHS.

ACTION: Correction of final rule.

SUMMARY: This document corrects technical errors in the final rule that appeared in the August 12, 2005 Federal Register entitled “Changes to the Hospital Inpatient Prospective Payment Systems and Fiscal Year 2006 Rates.”

DATES: Effective October 1, 2005.

FOR FURTHER INFORMATION CONTACT: Marc Hartstein, (410) 786-4548.

SUPPLEMENTARY INFORMATION:

I. Background

In FR Doc. 05-15406 (70 FR 47278), the final rule entitled “Changes to the Hospital Inpatient Prospective Payment Systems and Fiscal Year 2006 Rates” (hereinafter referred to as the FY 2006 final rule), there were a number of typographical and technical errors that are identified and corrected in the “Correction of Errors” section (section III. of this notice). The provisions of this correction notice are effective as if they had been included in the FY 2006 final rule. Accordingly, the corrections are effective October 1, 2005.

II. Summary of the Corrections to the FY 2006 Final Rule

On page 47292, in our preamble discussion regarding cardiac catheterizations for DRGs 535 and 536, we stated that we are removing code 37.26 from DRGs 535 and 536 and then erroneously stated that we are adding code 37.26 to DRG 515. Therefore, we are revising this discussion by deleting the phrase “and adding the code in DRG 515.” (See item 2 of section III.A. of this notice.)

On page 47312, in our preamble discussion regarding the “Tobacco Use Disorder Edit”, we stated the incorrect Medicare code editor (MCE) edit to which we added code 305.1. Although our national coverage determination on smoking cessation counseling services provides that we never cover tobacco cessation services when code 305.1 is reported as the principal diagnosis, we erroneously stated that code 305.1 would be added to the MCE edit “Questionable Admission—Principal Diagnosis Only.” Therefore, we are revising this discussion by replacing the incorrect MCE edit, “Questionable Admission—Principal Diagnosis Only,” with the correct MCE edit, “Unacceptable Principal Diagnosis.” (See item 3 of section III.A. of this notice.)

On page 47444, in our preamble discussion regarding Medicare Geographic Reclassification Review Board (MGCRB) reclassification for urban hospitals, we made typographical errors in our citations to the regulations text. In addition, on pages 47486 and 47487, our amendment to the regulations text contained technical errors. In this notice, we are revising the relevant preamble and regulations text. (See item 7 of section III.A. and items 1 and 2a of section III.B. of this notice.)

On page 47445, we made incorrect references in our preamble discussion regarding the date by which the MGCRB has to make its reclassification decisions. We are revising this discussion to clarify that the MGCRB has 180 days in which to make its reclassification decision. (See item 8 of section III.A. of this notice.)

On pages 47477 and 47478, in the column heading of the chart displaying information regarding diagnosis-related groups (DRGs) that recognize major cardiovascular conditions (MCVs), we erroneously included new DRGs whose titles include “without MCV.” We are revising this heading to include only those DRGs that recognize MCVs. (See item 10 of section III.A. of this notice.)

On pages 47589 and 47596, in Table 4A, we made errors in the calculation of the wage indexes and geographic adjustment factors for 2 core-based statistical areas (CBSAs). Accordingly, we are correcting this table to include the correct wage indexes and geographic adjustment factors (GAFs) for these CBSAs. We are also correcting the wage index values listed in Table 2 for the affected providers. (See items 1 and 2 of section III.C. of this notice.) In addition, the wage index data for a provider were erroneously omitted from the wage index calculation. This error affects hospitals geographically located in and reclassifying to the Houston-Sugar Land-Baytown, TX CBSA. Accordingly, we are revising Tables 2, 4A, and 4C to reflect the correct information. (See items 1, 2, and 4 of section III.C. of this notice.) Similarly, another provider's wage data were erroneously omitted from the wage index calculation that affects hospitals geographically located in and reclassifying to the Nashville-Davidson-Murfreesboro, TN CBSA. Therefore, we are including the corrected data in Tables 2, 4A, and 4C. (See items 1, 2, and 4 of section III.C. of this notice.)

On page 47604 on Table 4B we made an error in the calculation of the wage index and geographic adjustment factor for rural Washington. (See item 3 of section III.C. of this notice.) Therefore, we are correcting the wage index and GAF values listed for the 5 CBSAs in Table 4A that receive the Washington rural floor and we are also correcting the wage index values listed in Table 2 for the affected providers (See items 1 and 2 of section III.C. of this notice).

On page 47611, in Table 4J, we made a number of typographical errors in a group of the provider numbers listed. In this notice, we are correcting these errors. (See item 5 of section III.C. of this notice.)

On page 47675, in Table 9A, we inadvertently reclassified a provider to the incorrect CBSA. In addition, in Table 2, we also inadvertently listed the incorrect wage index for this provider. Accordingly, we are revising both of these tables to reflect the correct information for this provider. (See items 1 and 8 of section III.C. of this notice).

We are also correcting typographical, formatting or other errors that appear on other pages of the FY 2006 final rule.

III. Correction of Errors

In FR Doc. 05-15406 (70 FR 47278), we are making the following corrections:

A. Corrections to Errors in the Preamble

1. On page 47289, third column, first full paragraph, line 34 the figure “111” is corrected to read “115”.

2. On page 47292, first column, first partial paragraph, lines 1 and 2, the phrase “and adding the code in DRG 515” is deleted.

3. On page 47312, second column, second full paragraph, lines 26 and 27 the phrase “Questionable Admission-Principal Diagnosis Only” is corrected to read “Unacceptable Principal Diagnosis”.

4. On page 47344,

a. Second column, first partial paragraph, line 1, the word “criteria” is corrected to read “criterion”; and

b. Third column, first full paragraph, line 1, the word “INFUSETM” is corrected to read “INFUSE”.

5. On page 47350, third column,

a. First partial paragraph, last line, the phrase “Endovascular Stent Graft.” is corrected to read “Endovascular Stent Graft.)”; and

b. First full paragraph, line 48, the phrase “could not longer be” is corrected to read “could no longer be”.

6. On page 47418, second column, first full paragraph, line 11, the date “October 1, 2006” is corrected to read “October 1, 2005”.

7. On page 47444, first column, third full paragraph,

a. Line 21, the phrase “will longer be” is corrected to read “will no longer be”;

b. Line 30, the citation “§ 412.230(a)(5)(iv)” is corrected to read “§ 412.230(a)(5)(iii)”; and c. Line 34, the citation “§ 412.230(a)(5)(iv)” is corrected to read “§ 412.230(a)(5)(iii)”.

8. On page 47445, second column, first paragraph,

a. Line 25, the date “February 1” is corrected to read “180 days from the September 1 application due date”; and

b. Line 55, the date “February 1, 2006” is corrected to read “180 days from the September 1 application due date”.

9. On page 47446, first column, third paragraph, line 22, the citation “§ 412.230(d)(2)(iv)” is corrected to read “§ 412.230(d)(2)(iii)”.

10. On pages 47477 and 47478, in the chart, the fourth column, the header row, the heading “DRGs 547, 548, 549, 550, 553, 554, 555, 556, 557, and 558” is corrected to read “DRGs 547, 549, 553, 555, and 557”.

B. Corrections to Errors in the Regulations Text

§ 412.230 [Corrected]

1. On page 47486, third column, third line from the bottom, in the amendatory language for § 412.230, the phrase “Revising paragraph (a)(5)(iv)” is corrected to read “Revising paragraph (a)(5)(iii)”.

2. On page 47487, first column, a. Line 10, in § 412.230(a)(5), the paragraph number “(iv)” is corrected to read “(iii)”.

C. Corrections to Errors in the Addendum

1. On pages 47510, 47524, 47531, 47552, 47561 through 47568, 47570 and 47571, in Table 2—Hospital Case-Mix Indexes for Discharges Occurring in Federal Fiscal Year 2004; Hospital Wage Indexes for Federal Fiscal Year 2006; Hospital Average Hourly Wages for Federal Fiscal Years 2004 (2000 Wage Data), 2005 (2001 Wage Data), and 2006 (2002 Wage Data); Wage Indexes and 3-Year Average of Hospital Average Hourly Wages, for the listed provider numbers, the FY 2006 Wage Index (column 3) is corrected to read as follows:

Provider No. | FY 2006 wage index
030012 | 0.9874
130065 | 0.9400
130067 | 0.9400
180013 | 0.9506
180066 | 0.9506
180124 | 0.9506
360095 | 0.9564
440003 | 0.9778
440006 | 0.9778
440029 | 0.9778
440035 | 0.9506
440039 | 0.9778
440046 | 0.9778
440053 | 0.9778
440059 | 0.9506
440065 | 0.9778
440073 | 0.9506
440082 | 0.9778
440111 | 0.9778
440133 | 0.9778
440148 | 0.9506
440150 | 0.9778
440151 | 0.9506
440161 | 0.9778
440175 | 0.9506
440186 | 0.9778
440192 | 0.9506
440193 | 0.9778
440194 | 0.9778
440197 | 0.9778
440200 | 0.9778
440218 | 0.9778
450018 | 0.9999
450035 | 0.9999
450068 | 0.9999
450072 | 0.9999
450097 | 0.9999
450126 | 0.9999
450184 | 0.9999
450187 | 0.9999
450193 | 0.9999
450211 | 0.9999
450214 | 0.9999
450222 | 0.9999
450253 | 0.9999
450289 | 0.9999
450296 | 0.9999
450330 | 0.9999
450347 | 0.9999
450358 | 0.9999
450378 | 0.9999
450417 | 0.9999
450418 | 0.9999
450424 | 0.9999
450438 | 0.9999
450446 | 0.9999
450484 | 0.9999
450530 | 0.9999
450591 | 0.9999
450610 | 0.9999
450617 | 0.9999
450630 | 0.9999
450638 | 0.9999
450644 | 0.9999
450659 | 0.9999
450670 | 0.9999
450684 | 0.9999
450694 | 0.9999
450709 | 0.9999
450716 | 0.9999
450774 | 0.9999
450775 | 0.9999
450795 | 0.9999
450803 | 0.9999
450804 | 0.9999
450820 | 0.9999
450831 | 0.9999
450832 | 0.9999
450844 | 0.9999
450847 | 0.9999
450848 | 0.9999
450860 | 0.9999
450862 | 0.9999
450870 | 0.9999
500002 | 1.0511
500007 | 1.0719
500012 | 1.0511
500019 | 1.0724
500033 | 1.0511
500036 | 1.0511
500037 | 1.0511
500049 | 1.0511
500122 | 1.0511
500147 | 1.0511
500148 | 1.0511

2. On pages 47589, 47591 through 47594, 47596, and 47602, in Table 4A—Wage Index and Capital Geographic Adjustment Factor (GAF) for Urban Areas by CBSA, for the listed CBSA codes, the wage index (column 3) and GAF (column 4) are corrected to read as follows:

CBSA code | Wage index | GAF
26420 | 0.9999 | 0.9999
26820 | 0.9400 | 0.9585
30300 (WA Hospitals) | 1.0511 | 1.0347
31020 | 1.0511 | 1.0347
34580 | 1.0511 | 1.0347
34980 | 0.9778 | 0.9847
39140 | 0.9874 | 0.9914
48300 | 1.0511 | 1.0347
49420 | 1.0511 | 1.0347

3. On page 47604, in Table 4B—Wage Index and Capital Geographic Adjustment (GAF) for Rural Areas by CBSA, for the listed CBSA code, the wage index (column 3) and GAF (column 4) are corrected to read as follows:

CBSA code | Wage index | GAF
50 | 1.0511 | 1.0347

4. On pages 47605 and 47606, in Table 4C—Wage Index and Capital Geographic Adjustment Factor (GAF) for Hospitals that are Reclassified by CBSA, for the listed CBSA codes, the wage index (column 3) and GAF (column 4) are corrected or added to read as follows:

CBSA code | Area | Wage index | GAF
26420 | Houston-Sugar Land-Baytown, TX | 0.9999 | 0.9999
26820 | Idaho Falls, ID | 0.9400 | 0.9585
34980 | Nashville-Davidson-Murfreesboro, TN | 0.9506 | 0.9659

5. On page 47611, in Table 4J—Out-Migration Adjustment—FY 2006, the 23rd through 45th entries, the entries in the Published Provider No. column in the chart below are corrected in the Corrected Provider No. column to read as follows:

Published provider No. | Corrected provider No.
540022 | 150022
540030 | 150030
540035 | 150035
540045 | 150045
540060 | 150060
540062 | 150062
540065 | 150065
540076 | 150076
540088 | 150088
540091 | 150091
540102 | 150102
540113 | 150113
540122 | 150122
640013 | 160013
640026 | 160026
640030 | 160030
640032 | 160032
640080 | 160080
740137 | 170137
840012 | 180012
840066 | 180066
840127 | 180127
840128 | 180128

6. On page 47619, in Table 5—List of Diagnosis-Related Groups, Relative Weighting Factors, and Geometric and Arithmetic Mean Length of Stay (LOS), the 11th and 12th entries, the DRG title (column 6) is corrected to read as follows:

DRG | DRG title
68 | OTITIS MEDIA & URI AGE >17 W CC
69 | OTITIS MEDIA & URI AGE >17 W/O CC

7. On page 47638, in Table 6E—Revised Diagnosis Code Titles, the first entry, the CC (column 3) is corrected to read as follows:

Diagnosis code | CC
285.21* | N

8. On page 47675, in Table 9A—Hospital Reclassifications and Redesignations by Individual Hospital and CBSA—FY 2006, first set of entries, the 36th entry, the Reclassified CBSA is corrected to read as follows:

Provider No. | Reclassified CBSA
360095 | 45780

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive the notice and comment procedures if the Secretary finds, for good cause, that the notice and comment process is impracticable, unnecessary or contrary to the public interest, and incorporates a statement of the finding and the reasons therefore in the notice. We can also waive the 30-day delay in effective date under the APA (5 U.S.C. 553(d)) when there is good cause to do so and we publish in the rule an explanation of our good cause.

The policies and payment methodology expressed in the FY 2006 final rule have previously been subjected to notice and comment procedures. This correction notice merely corrects typographical and technical errors in the preamble, regulations text, and addendum of the FY 2006 final rule and does not make substantive changes to the policies or payment methodologies that were adopted in the final rule. As a result, this correction notice is intended to ensure that the FY 2006 final rule accurately reflects the policies adopted in the final rule. Therefore, we find that undertaking further notice and comment procedures to incorporate these corrections into the final rule is unnecessary and contrary to the public interest.

For the same reasons, we are also waiving the 30-day delay in effective date for this correction notice. We believe that it is in the public interest to ensure that the FY 2006 final rule accurately represents our prospective payment methodology, payment rates, and policies. Thus delaying the effective date of these corrections would be contrary to the public interest. Therefore, we also find good cause to waive the 30-day delay in effective date.

(Catalog of Federal Domestic Assistance Program No. 93.773, Medicare—Hospital Insurance; and Program No. 93.774, Medicare—Supplementary Medical Insurance Program)

Dated: September 27, 2005.
Ann C. Agnew,
Executive Secretary to the Department.

[FR Doc. 05-19612 Filed 9-29-05; 8:45 am]

BILLING CODE 4120-01-P